DEPARTMENT OF EDUCATION

Office of Special Education and Rehabilitative Services Overview Information; Personnel Development To Improve Services and Results for Children With Disabilities—National Center To Enhance the Training of Personnel Who Share Responsibility for Improving Outcomes for Young Children With Disabilities (National Early Childhood Training Enhancement Center); Notice Inviting Applications for New Awards for Fiscal Year (FY) 2007

Catalog of Federal Domestic Assistance (CFDA) Number: 84.325J.

Dates: Applications Available: March 5, 2007.

Deadline for Transmittal of Applications: April 19, 2007.

Deadline for Intergovernmental Review: June 18, 2007.

Eligible Applicants: Institutions of higher education (IHEs).

Estimated Available Funds: The Administration has requested $90,626,000 for the Personnel Development To Improve Services and Results for Children with Disabilities program for FY 2007, of which we intend to use an estimated $600,000 for the National Early Childhood Training Enhancement Center competition. The actual level of funding, if any, depends on final congressional action. However, we are inviting applications to allow enough time to complete the grant process if Congress appropriates funds for this program.

Maximum Award: We will reject any application that proposes a budget exceeding $600,000 for a single budget period of 12 months. The Assistant Secretary for Special Education and Rehabilitative Services may change the maximum amount through a notice published in the Federal Register.

Number of Awards: 1.

Note: The Department is not bound by any estimates in this notice.

Project Period: Up to 60 months.

Full Text of Announcement

I. Funding Opportunity Description

Purpose of Program: The purposes of this program are to (1) help address State-identified needs for highly qualified personnel—in special education, related services, early intervention, and regular education—to work with infants or toddlers with disabilities, or children with disabilities; and (2) ensure that those personnel have the skills and knowledge—derived from practices that have been determined through research and experience to be successful—that are needed to serve those children.

Priority: In accordance with 34 CFR 75.105(b)(2)(v), this priority is from allowable activities specified in the statute (see sections 662(d) and 681(d) of the Individuals with Disabilities Education Act (IDEA)).

Absolute Priority: For FY 2007 this priority is an absolute priority. Under 34 CFR 75.105(c)(3), we consider only applications that meet this priority.

This priority is: National Early Childhood Training Enhancement Center Background:

In growing numbers, infants, toddlers, and preschoolers with disabilities are joining their peers without disabilities in natural settings such as childcare centers, Early Head Start and Head Start programs, and public and private preschools. Early interventionists, early childhood educators and special educators, related services providers, and childcare personnel share responsibility for ensuring high quality services and improved outcomes for young children with disabilities. To effectively meet the learning and developmental needs of young children (birth through five) with disabilities, all of these professionals must have knowledge and training in early intervention and early childhood special education, including how to work with families with young children.

Recent data collected by the Office of Special Education Programs (OSEP)-funded Center to Inform Personnel Preparation Policy and Practice in Early Intervention and Preschool Education (http://www.uconnucedd.org/per_prep_center/index.html) suggest, however, that programs have serious difficulty finding and hiring personnel with adequate training in early intervention or early childhood special education. In addition, many early care and education personnel do not have the training or knowledge to effectively meet the diverse developmental and educational needs of young children with disabilities in natural environments. In order to meet the early learning and developmental needs of young children more effectively, future and current early childhood personnel must have access to training, educational resources, and materials that reflect evidence-based practice in the fields of early intervention and early childhood education.

In particular, educators and service providers must have: (1) Knowledge of authentic assessment practices such as collecting work samples and observational records, which go beyond assessment of discrete skills to assessments that capture the depth of children's functional abilities within their daily context; (2) training in service coordination and collaborative models of service delivery (this is particularly important as specialized service providers go into natural environments, such as childcare centers and preschools, where staff may not be as knowledgeable about evidence-based practices in working with children with disabilities and their families); and (3) knowledge of interventions and practices that support the development of school readiness skills, particularly in the areas of language, early literacy, and social-emotional development.

To this end, the Assistant Secretary proposes a National Early Childhood Training Enhancement Center for preservice higher education faculty and professional development providers who train early interventionists, early childhood educators and special educators, related services providers, and childcare personnel (the targeted constituent group) to work with infants, toddlers, and preschoolers with disabilities (birth through five) and their families.

Priority

The purpose of this priority is to address the need for high quality early childhood personnel and ensure that they have the skills and knowledge to provide collaborative services to meet the developmental and learning needs of infants, toddlers, and preschoolers with disabilities. The goal of this priority is to establish a National Early Childhood Training Enhancement Center (Center) that will identify, develop, and disseminate evidence-based training modules for use by higher education faculty, including community college faculty, and professional development providers who provide ongoing training to the targeted constituent group. The Center must provide technical assistance to programs providing preservice preparation and professional development. The Center also must ensure that these programs have ready access to current materials and resources necessary to support the development of personnel to effectively work within a collaborative model to effectively serve young children with disabilities in natural environments.

The Center must:

(a) Identify needs. Identify knowledge and skill enhancement needs of preservice trainees and practicing personnel in the targeted constituent group that are most critical to ensuring that these personnel are well prepared to meet the developmental and learning needs of young children with disabilities. As part of this needs-identification process, the Center must consult with, representatives of professional organizations, faculty from both 4-year and 2-year programs engaged in preservice training, professional development providers, students in training, practicing personnel, families of young children with disabilities, and other stakeholders as appropriate. In addition to the needs identified through this process, the Center must, as appropriate to the roles of the targeted constituents, focus on the following topic areas: Authentic assessment of young children, collaborative service delivery, working with families of young children with disabilities, and knowledge of intervention and practices that support the development of school readiness outcomes for young children with disabilities, especially in the areas of language, early literacy, and social-emotional development.

(b) Identify appropriate existing resources. Identify existing resources that represent state of the art, evidence-based knowledge and practice in early intervention and early childhood education, including resources that have been developed through early childhood discretionary grants or contracts funded by OSEP, Head Start and the Child Care Bureau in the Department of Health and Human Services, or other relevant agencies. Additionally, the Center must review and consider for incorporation, into proposed training modules and supporting materials, appropriate early childhood products that have been developed by projects that are part of the OSEP Technical Assistance Network, including State Personnel Development projects, Parent Training and Information Centers, and other OSEP-funded technical assistance projects.

(c) Identify and develop training modules. Identify and evaluate existing training modules in the field using established criteria and develop content-rich training modules that address the critical knowledge and skill-enhancement needs identified through activities conducted under paragraph (a); reflect evidence-based practices and scientifically-based research; are designed to maximize adult learning; and integrate existing resources identified in paragraph (b). In addition, the training modules must be designed for ease of integration into existing curricular and experiential opportunities in the targeted preservice preparation programs or structured to be effective resources for providing professional development opportunities for personnel already in practice. Training modules also must be identified and developed in collaboration with content experts, through sub-contractual or consultative arrangements with the Center, to ensure that module content is current and reflects promising and effective practices. Each proposed content expert and module topic must be approved by OSEP prior to the initiation of any development activity.

(d) Disseminate training modules and provide targeted technical assistance. Develop and implement mechanisms that will result in broad, effective dissemination and use of training modules identified or developed in paragraph (c). The Center must make all training modules and supporting materials available on a dedicated Web site that is easily searchable by topic and is available for use to everyone at no cost. As an example of previous OSEP-supported work that utilizes this approach, please see the following Web site: http://iris.peabody.vanderbilt.edu/. The Center must develop a dissemination partnership with at least one publisher who links (without cost to the Center or additional costs to the consumer) the materials and resources created by the Center to its products and services. The Center must develop targeted mechanisms for the dissemination and utilization of products by preservice personnel preparation programs in institutions of higher education, including community colleges, OSEP-funded State Personnel Development grantees, and professional development providers whose services target personnel serving infants, toddlers, and preschoolers with disabilities. The Center must also develop efficient, effective strategies for providing technical assistance to assist higher education faculty and professional development providers in the use of the training modules created by the Center.

(e) Conduct comprehensive project evaluation. Design and conduct a comprehensive evaluation of the work, accomplishments, outcomes, impact, and effectiveness of the Center. This evaluation must be designed to provide information to guide ongoing refinements to the structure, activities, workflow, and products that will improve the ultimate impact and effectiveness of the Center. This comprehensive evaluation must also be designed to measure the impact of the Center's work on the goal of enhancing the knowledge and skills of the targeted constituent group so that they can effectively provide young children with disabilities the services and supports necessary for them to fully participate in natural environments, meet their developmental and learning potential, and be prepared to enter school ready to learn.

(f) Establish an advisory board. In designing and carrying out the required activities of the Center, the project must establish and make ongoing and effective use of a Board of Advisors. The make-up of the Board of Advisors should include as appropriate: Professional organization representatives, higher education faculty, practicing personnel, professional development providers, family members of young children with disabilities, State and local IDEA Part C and section 619 coordinators, federally supported technical assistance providers, and federally supported higher education project directors.

(g) Maintain communication with OSEP. The project should maintain ongoing communication with the OSEP Project Officer, including monthly conference calls. The project must also budget for a three-day Project Directors' meeting in Washington, DC during each year of the project plus additional two-day trips annually to Washington, DC to attend additional national meetings and to meet and collaborate with the OSEP Project Officer and other funded projects for purposes of cross-project collaboration and information exchange.

Fourth and Fifth Years of the Project

In deciding whether to continue funding the Center for the fourth and fifth years, the Secretary will consider the requirements of 34 CFR 75.253(a), and in addition—

(a) The recommendation of a review team consisting of experts selected by the Secretary. The review will be conducted in Washington, DC during the last half of the project's second year; projects must budget for travel expenses associated with this one-day intensive review;

(b) The timeliness and effectiveness with which all requirements of the negotiated cooperative agreement have been or are being met by the Center; and

(c) The degree to which the Center's products reflect evidence-based practices and scientifically-based research and address the identified critical knowledge and skill enhancement needs within the field.

Waiver of Proposed Rulemaking: Under the Administrative Procedure Act (APA) (5 U.S.C. 553) the Department generally offers interested parties the opportunity to comment on a proposed priority. However, section 681(d) of IDEA makes the public comment requirements of the APA inapplicable to the priority in this notice.

Program Authority: 20 U.S.C. 1462 and 1481(d).

Applicable Regulations: The Education Department General Administrative Regulations (EDGAR) in 34 CFR parts 74, 75, 77, 79, 80, 81, 82, 84, 85, 86, 97, 98, and 99.

II. Award Information

Type of Award: Cooperative agreement.

Estimated Available Funds: The Administration has requested $90,626,000 for the Personnel Development to Improve Services and Results for Children with Disabilities program for FY 2007, of which we intend to use an estimated $600,000 for the National Early Childhood Training Enhancement Center competition. The actual level of funding, if any, depends on final congressional action. However, we are inviting applications to allow enough time to complete the grant process if Congress appropriates funds for this program.

Maximum Award: We will reject any application that proposes a budget exceeding $600,000 for a single budget period of 12 months. The Assistant Secretary for Special Education and Rehabilitative Services may change the maximum amount through a notice published in the Federal Register.

Number of Awards: 1.

Note: The Department is not bound by any estimates in this notice.

Project Period: Up to 60 months.

III. Eligibility Information

1. Eligible Applicants: IHEs.

2. Cost Sharing or Matching: This competition does not involve cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.325J.

Individuals with disabilities may obtain a copy of the application package in an alternative format (e.g., Braille, large print, audiotape, or computer diskette) by contacting the Grants and Contracts Services Team listed under FOR FURTHER INFORMATION CONTACT in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 70 pages, using the following standards:

• A “page” is 8.5″ x 11″, on one side only, with 1” margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography, the references, or the letters of support. However, you must include all of the application narrative in Part III.

We will reject your application if—

• You apply these standards and exceed the page limit; or

• You apply other standards and exceed the equivalent of the page limit.

3. Submission Dates and Times:

Applications Available: March 5, 2007.

Deadline for Transmittal of Applications: April 19, 2007.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Individuals with disabilities who need an accommodation or auxiliary aid in connection with the application process should contact the person listed under FOR FURTHER INFORMATION CONTACT.

Deadline for Intergovernmental Review: June 18, 2007.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications. To comply with the President's Management Agenda, we are participating as a partner in the Governmentwide Grants.gov Apply site. The National Early Childhood Training Enhancement Center competition—CFDA number 84.325J is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the National Early Childhood Training Enhancement Center competition—CFDA number 84.325J at: http://www.grants.gov. You must search for the downloadable application package for this program by the CFDA number. Do not include the CFDA number's alpha suffix in your search (e.g., search for 84.326, not 84.326A).

Please note the following:

• Your participation in Grants.gov is voluntary.

• When you enter the Grants.gov site, you will find information about submitting an application electronically through the site, as well as the hours of operation.

• Applications received by Grants.gov are time and date stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed elsewhere in this notice under FOR FURTHER INFORMATION CONTACT and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail. If you submit your application in paper format by mail (through the U.S. Postal Service or a commercial carrier), you must mail the original and two copies of your application, on or before the application deadline date, to the Department at the applicable following address:

By mail through the U.S. Postal Service: U.S. Department of Education, Application Control Center, Attention: (CFDA Number 84.325J), 400 Maryland Avenue, SW., Washington, DC 20202-4260. or

By mail through a commercial carrier: U.S. Department of Education, Application Control Center—Stop 4260, Attention: (CFDA Number 84.325J), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you submit your application in paper format by hand delivery, you (or a courier service) must deliver the original and two copies of your application by hand, on or before the application deadline date, to the Department at the following address: U.S. Department of Education, Application Control Center, Attention: (CFDA Number 84.325J), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Treating A Priority As Two Separate Competitions: In the past, there have been problems in finding peer reviewers without conflicts of interest for competitions in which many entities throughout the country submit applications. The Standing Panel requirements under IDEA also have placed additional constraints on the availability of reviewers. Therefore, the Department has determined that, for some discretionary competitions, applications may be separated into two or more groups and ranked and selected for funding within the specific group. This procedure will ensure the availability of a much larger group of reviewers without conflicts of interest. It also will increase the quality, independence and fairness of the review process and permit panel members to review applications under discretionary competitions for which they have also submitted applications. However, if the Department decides to select for funding an equal number of applications in each group, this may result in different cut-off points for fundable applications in each group.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act of 1993 (GPRA), the Department has developed annual performance measures that will yield information on various aspects of the technical assistance and dissemination activities currently being supported under IDEA Part D. These measures will be used for the National Early Childhood Training Enhancement Center competition. They are: The percentage of products and services deemed to be of high quality by an independent review panel of qualified experts or individuals with appropriate expertise to review the substantive content of the products and services; the percentage of products and services deemed to be of high relevance to educational and early intervention policy or practice by an independent review panel of qualified members of the target audiences of the technical assistance and disseminations; the percentage of all products and services deemed to be of high usefulness by target audiences to improve educational or early intervention policy or practice.

We will notify grantees if they will be required to provide any information related to these measures.

Grantees will also be required to report information on their projects' performance in annual reports to the Department (34 CFR 75.590).

VII. Agency Contact

For Further Information Contact: Christy Kavulic, U.S. Department of Education, 400 Maryland Avenue, SW., Room 4057, Potomac Center Plaza, Washington, DC 20202-2550. Telephone: (202) 245-7359.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 28, 2007.
John H. Hager,
Assistant Secretary for Special, Education and Rehabilitative, Services.

[FR Doc. E7-3793 Filed 3-2-07; 8:45 am]

BILLING CODE 4000-01-P